DEPARTMENT OF AGRICULTURE

Forest Service

Northwest Sacramento Provincial Advisory Committee (PAC); Meeting

AGENCY: Forest Service, USDA.

ACTION: Notice of Meeting.

SUMMARY: The Northwest Sacramento Provincial Advisory Committee (PAC) will meet Thursday, November 2, 2000, at the BLM Conference Room 355 Hemsted Road, Redding, California. The meeting will be held from 9 am to 5 pm. Agenda items to be covered include: (1) Report out from the PIEC meeting; (2) Technical Committee from Clear Creek; (3) August IAC meeting; (4) Assessment of affect of Survey and Manage on Province (all agencies) in regards to timber, fuels reduction, and recreation programs; (5) Update on the Fire Management Strategy; (6) Open public comment. All Northwest Sacramento Provincial Advisory Committee meetings are open to the public. Interest citizens are encouraged to attend.

FOR FURTHER INFORMATION CONTACT: Direct questions regarding this meeting to Sharon Heywood, Forest Supervisor, or Duane Lyon, Public Affairs Officer, USDA, Shasta-Trinity National Forest, 2400 Washington Avenue, Redding, CA 96001, (530) 244-2978.

Dated: October 9, 2000.
J. Sharon Heywood,
Forest Supervisor.

[FR Doc. 00-27165 Filed 10-20-00; 8:45 am]

BILLING CODE 3410-11-M